NUCLEAR REGULATORY COMMISSION

[Docket No. 52-011-ESP; ASLBP No. 07-850-01-ESP-BD01]

Atomic Safety and Licensing Board Panel; Before the Licensing Board: G. Paul Bollwerk, III, Chairman, Nicholas G. Trikouros, Dr. James F. Jackson; In the Matter of Southern Nuclear Operating Co. (Early Site Permit for Vogtle ESP Site); Notice of Hearing (Application for Early Site Permit)

March 28, 2007.

This proceeding concerns the August 15, 2006 application of Southern Nuclear Operating Company (SNC) for a 10 CFR Part 52 early site permit (ESP). The ESP application seeks approval for use of the existing Vogtle Electric Generating Plant site near Waynesboro, Georgia, for the possible construction of two new nuclear reactors. In response to an October 5, 2006 notice of hearing and opportunity to petition for leave to intervene, 71 FR 60,195 (Oct. 12, 2006), on December 11, 2006, the Center for a Sustainable Coast, Savannah Riverkeeper, Southern Alliance for Clean Energy, Atlanta Women's Action for New Directions, and Blue Ridge Environmental Defense League (collectively the Joint Petitioners) filed a timely request for hearing and petition to intervene contesting the SNC ESP application. On December 13, 2006, the Commission referred the petition to the Atomic Safety and Licensing Board Panel to conduct any subsequent adjudication. On December 15, 2006, a three-member Atomic Safety and Licensing Board was established to adjudicate this ESP proceeding. See 71 FR 77,071 (Dec. 22, 2006).

On February 13, 2007, the Board conducted a one-day initial prehearing conference in Waynesboro, Georgia, during which it heard oral presentations regarding the standing of the Joint Petitioners and the admissibility of their seven proffered contentions. Thereafter, in a March 12, 2007 issuance, finding that each of the Joint Petitioners had established the requisite standing to intervene in this proceeding and that they had submitted two admissible contentions concerning the SNC ESP application, the Board admitted them as parties to this proceeding. See Southern Nuclear Operating Co. (Early Site Permit for Vogtle ESP Site), LBP-07-03, 65 NRC (Mar. 12, 2006).

In light of the foregoing, please take notice that a hearing will be conducted in this proceeding. Subject to any Board determination regarding any request to utilize formal hearing procedures under 10 CFR part 2, Subpart G, see 10 CFR 2.310(d), the hearing on contested matters will be governed by the informal hearing procedures set forth in 10 CFR part 2, subparts C and L, 10 CFR 2.300-2.390, 2.1200-12.1213. Further, in accordance with the October 2006 notice regarding the SNC ESP application, 71 FR at 60,195, and 10 CFR 52.21, in the context of a hearing on uncontested matters, the Licensing Board will:

(1) Consider whether the issuance of an ESP will not be inimical to the common defense and security or to the health and safety of the public (Safety Issue 1);

(2) Determine whether, taking into consideration the site criteria contained in 10 CFR part 100, a reactor, or reactors, having characteristics that fall within the parameters for the site, can be constructed and operated without undue risk to the health and safety of the public (Safety Issue 2); and

(3) Consider whether, in accordance with the requirements of subpart A of 10 CFR part 51, the ESP should be issued as proposed.

Additionally, in accord with the October 2006 notice, the Board will:

(1) Determine whether the requirements of sections 102(2)(A), (C), and (E) of the National Environmental Policy Act of 1969 and 10 CFR Part 51, Subpart A, have been complied with in the proceeding;

(2) Independently consider the final balance among conflicting factors contained in the record of proceeding with a view to determining the appropriate action to be taken; and

(3) Determine, after considering reasonable alternatives, whether a license should be issued, denied, or appropriately conditioned to protect environmental values.

During the course of this proceeding, the Board may conduct an oral argument, as provided in 10 CFR 2.331, may hold additional prehearing conferences pursuant to 10 CFR 2.329, and may conduct evidentiary hearings in accordance with 10 CFR 2.327-2.328, 2.1206-2.1208. The public is invited to attend any oral argument, prehearing conference, or evidentiary hearing. Notices of those sessions will be published in the Federal Register and/or made available to the public at the NRC Public Document Room (PDR), located at One White Flint North, 11555 Rockville Pike (first floor), Rockville, Maryland, and through the NRC Web site, http://www.nrc.gov.

Additionally, as provided in 10 CFR 2.315(a), any person not a party to the proceeding may submit a written limited appearance statement. Limited appearance statements, which are placed in the docket for the hearing, provide members of the public with an opportunity to make the Board and/or the participants aware of their concerns about matters at issue in the proceeding. A written limited appearance statement can be submitted at any time and should be sent to the Office of the Secretary using one of the methods prescribed below:

Mail to: Office of the Secretary, Rulemakings and Adjudications Staff, U.S. Nuclear Regulatory Commission, Washington, DC 20555-0001.

Fax to: (301) 415-1101 (verification (301) 415-1966).

E-mail to: hearingdocket@nrc.gov.

In addition, a copy of the limited appearance statement should be sent to the Licensing Board Chairman using the same method at the address below:

Mail to: Administrative Judge G. Paul Bollwerk, III, Atomic Safety and Licensing Board Panel, Mail Stop T-3F23, U.S. Nuclear Regulatory Commission, Washington, DC 20555-0001.

Fax to: (301) 415-5599 (verification (301) 415-7550).

E-mail to: gpb@nrc.gov.

At a later date, the Board may entertain oral limited appearance statements at a location, or locations, in the vicinity of the proposed Vogtle ESP site. Notice of any oral limited appearance sessions will be published in the Federal Register and/or made available to the public at the NRC PDR and on the NRC Web site, http://www.nrc.gov.

Documents relating to this proceeding are available for public inspection at the Commission's PDR or electronically from the publicly available records component of NRC's document system (ADAMS). ADAMS is accessible from the NRC Web site at http://www.nrc.gov/reading-rm/adams.html (the Public Electronic Reading Room). Persons who do not have access to ADAMS, or who encounter problems in accessing the documents located in ADAMS, should contact the NRC PDR Reference staff by telephone at 1-800-397-4209, 301-415-4737, or by e-mail to pdr@nrc.gov.

It is so ordered.

March 28, 2007.
For The Atomic Safety and Licensing Board.*
*
Copies of this notice of hearing were sent this date by Internet e-mail transmission and the agency's E-Submittal system to counsel for (1) applicant SNC.; (2) the Joint Petitioners; and (3) the NRC staff.
G. Paul Bollwerk, III,
Chairman, Rockville, Maryland.

[FR Doc. E7-6130 Filed 4-2-07; 8:45 am]

BILLING CODE 7590-01-P